DEPARTMENT OF ENERGY

Federal Energy Regulatory Commission

[Docket No. RP96-320-034]

Koch Gateway Pipeline Company; Notice of Negotiated Rate Filing

January 3, 2001.

Take notice that on December 22, 2000, Koch Gateway Pipeline Company (“Koch”) filed with the Federal Energy Regulatory Commission (“Commission”) contracts between Koch and the following companies for disclosure of recently negotiated rate transactions. As shown on the contracts, Koch requests an effective date of January 1, 2001.

Special Negotiated Rate Between

Koch Gateway Pipeline and Mobile Energy LLC

Koch Gateway Pipeline and Koch Energy Trading Company

Koch states that copies of the filing are being made available for public inspection during regular business hours in Koch's offices in Houston, Texas. In addition, Koch states that it has served copies of this filing upon all parties on the official service list created by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-522 Filed 1-8-01; 8:45 am]

BILLING CODE 6717-01-M